DEPARTMENT OF HOUSING AND URBAN DEVELOPMENT

[Docket No. FR-5828-N-25]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW., Room 7040, Washington, DC 20405, (202) 501-0084; NAVY: Mr. Steve Matteo, Department of the Navy, Asset Management; Division, Naval Facilities Engineering Command, Washington Navy Yard, 1330 Patterson Ave. SW., Suite 1000, Washington, DC 20374; (202) 685-9426 (These are not toll-free numbers).

Dated: June 11, 2015.
Brian P. Fitzmaurice,
Director, Division of Community Assistance, Office of Special Needs Assistance Programs.

Title V, Federal Surplus Property Program Federal Register Report for 06/19/2015

Suitable/Available Properties

Building

Alabama

SGT Jack Richburg USARCr

107 Kinston Highway

Opp AL 36467

Landholding Agency: GSA

Property Number: 54201520016

Status: Excess

GSA Number: 4-D-AL-0816AA

Directions: GSA—Disposal Agency; US Army Reserve—Landholding Agency.

Comments: 4,316 sq. ft.; administrative bldg.; office; built: 1967; sits on 4.53 acres; asbestos; remediation required; contact GSA for more information.

Suitable/Available Properties

Land

Pennsylvania

FAA 0.65 Acres Vacant Land

Westminster Rd.

Wilkes-Barre PA 18702

Landholding Agency: GSA

Property Number: 54201520013

Status: Surplus

GSA Number: 4-U-PA-0828AA

Directions: GSA—Disposal Agency; FAA—Landholding Agency.

Comments: Cleared area w/gravel; contact GSA for more information.

Suitable/Available Properties

Land

Tennessee

Parcel 279.01

Northwest corner of Administration Rd. & Laboratory Rd.

Oak Ridge TN 37830

Landholding Agency: GSA

Property Number: 54201520014

Status: Surplus

GSA Number: 4-B-TN-0664-AD

Directions: Disposal Agency; Energy—Landholding Agency.

Comments: Corner lot w/out an est. driveway/curb; transferee will need to contact the City of Oak Ridge for ingress/egress requirements (865-425-3581; www.oakridgetn.gov); contact GSA for more information.

Parcel ED-3 E and W (168.30 ± acres)

South Side of Oak Ridge Turnpike

Oak Ridge TN 37763

Landholding Agency: GSA

Property Number: 54201520015

Status: Surplus

GSA Number: 4-B-TN-0664-AG

Directions: GSA—Disposal Agency; Energy—Landholding Agency; (State Rte. 58).

Comments: Accessibility/usage subjected to Federal, state, & local laws including but not limited to historic preservation, floodplains, wetlands, endangered species, Nat'l EPA; contact GSA for more information.

Unsuitable Properties

Land

District of Columbia

4 Vacant Parcels

Joint Base Anacostica-Bolling

Washington DC

Landholding Agency: Navy

Property Number: 77201520015

Status: Underutilized

Directions: N. end ball fields; vacant/underutilized land & parking lot S. of N. end ball fields; vacant/underutilized land W. of #370; open space off Duncan Ave.

Comments: Public access denied and no alternative method to gain access without compromising national security.

Reasons: Secured Area.

[FR Doc. 2015-14835 Filed 6-18-15; 8:45 am]

BILLING CODE 4210-67-P